DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, August 7, 2020, 8:00 a.m. to 5:00 p.m., National Institute of Child Health and Human Development, 6710B Rockledge Drive, Bethesda, MD 20892 which was published in the Federal Register on July 10, 2020, 85 FR 41606.

The meeting date changed from August 7, 2020, 8:00 a.m.-5:00 p.m. to December 14, 2020, 10:00 a.m. to 6:00 p.m. The meeting is closed to the public.

Dated: November 16, 2020.
Ronald J. Livingston, Jr.,
Program Analyst, Office of Federal Advisory Committee Policy.

[FR Doc. 2020-25630 Filed 11-19-20; 8:45 am]

BILLING CODE 4140-01-P